DEPARTMENT OF VETERANS AFFAIRS

Veterans' Rural Health Advisory Committee; Notice of Meeting

The Department of Veterans Affairs (VA) gives notice under Public Law 92-463 (Federal Advisory Committee Act) that the Veterans' Rural Health Advisory Committee will hold a meeting on March 3-4, 2009, at the Point Hilton Squaw Peak Hotel, 7677 North 16th Street, Phoenix, Arizona.

The purpose of the Committee is to advise the Secretary of Veterans Affairs on health care issues affecting enrolled Veterans residing in rural areas. The Committee will examine programs and policies that impact the provision of VA health care to enrolled Veterans residing in rural areas, and discuss ways to improve and enhance VA services for these Veterans.

On March 3, the Committee will meet in open session from 8 a.m. to 5:30 p.m. and will receive presentations from the Director of the VA Office of Rural Health (ORH) the Directors of the three (3) ORH Veterans' Rural Health Resource Centers, and community partner representatives.

On March 4, the Committee will convene in a closed session from 8 a.m. to 10 a.m. in order to protect patient privacy as the Committee tours patient treatment areas in the Carl T. Hayden VA Medical Center and receives a demonstration of the VA computerized patient record system. Thus, the closing is in accordance with 5 U.S.C. 552b(c)(6). The Committee will reconvene in open session from 10:30 a.m. to noon at the Point Hilton Squaw Peak Hotel, 7677 North 16th Street, Phoenix, Arizona, for a discussion and wrap-up.

No time will be allocated for receiving oral presentations from the public. However, members of the public may direct questions or submit written statements for review by the Committee not less than 10 days in advance of the meeting to Ms. Kara Hawthorne, Designated Federal Officer, Department of Veterans Affairs (10A5), 810 Vermont Avenue, NW., Washington, DC 20420. Individuals who wish to attend the meeting or require additional information about the meeting should e-mail Ms. Hawthorne at kara.hawthorne@va.gov.

Dated: February 10, 2009.
E. Philip Riggin,
Committee Management Officer.

[FR Doc. E9-3257 Filed 2-13-09; 8:45 am]

BILLING CODE 8320-01-P